DEPARTMENT OF TRANSPORTATION

Federal Aviation Administration

[Docket No. FAA-2024-2216]

Agency Information Collection Activities: Requests for Comments; Clearance of Approval of Information Collection To Provide for the Amount of Aqueous Film Forming Foam (AFFF) Located at Part 139 Airports

AGENCY: Federal Aviation Administration (FAA), Department of Transportation.

ACTION: Notice and request for comments.

SUMMARY: In accordance with the Paperwork Reduction Act of 1995, FAA invites public comments about our intention to request the Office of Management and Budget (OMB) approval for an information collection. The collection involves S. 4319—A bill to provide for progress reports on the national transition plan related to a fluorine-free firefighting foam that requires that the FAA provide progress reports on the status of part 139 airports transition to fluorine-free firefighting foam no later than 180 days after the date of enactment of this Act, and every 180 days thereafter until the progress report termination date. Within this report, a comprehensive list of the amount of AFFF at each part 139 airport has as of the date of the submission of the progress report, including the amount of such firefighting foam held in firefighting equipment and the number of gallons regularly kept in reserve at each such airport. These progress reports on the development and implementation of a national transition plan related to a fluorine-free firefighting foam that meets the performance standards referenced in Chapter 3—Agent Compatibility, Substitutions, and Performance Requirements of Advisory Circular 150/5210.6E—Aircraft Fire Extinguishing Agents for Airports (AC 150/5210.62) issued on November 27, 2023 shall be submitted to the appropriate committees of Congress.

DATES: Written comments should be submitted by July 8, 2025.

ADDRESSES: Please send written comments:

By Electronic Docket: www.regulations.gov.

Enter docket number: FAA-2024-2216 into search field.

By email: anthony.butters@faa.gov.

FOR FURTHER INFORMATION CONTACT: Anthony Butters by email at: anthony.butters@faa.gov; phone: 202-267-9616.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2024-2216.

Title: Collection for Progress Reports related to the National Transition Plan for fluorine-free firefighting foam.

Form Numbers: N/A.

Type of Review: New information collection.

The required respondents to this new information request are civilian U.S. part 139 airport certificate holders who operate airports that serve scheduled and unscheduled operations of air carrier aircraft with more than 10 passenger seats (approximately 517 airports). These airport operators already hold an AOC and comply with all current information collection requirements.

Operators of certificated airports are permitted to choose the methodology to report information and can design their own recordkeeping system. As airports vary in size, operations and complexities, the FAA has determined this method of information collection allows airport operators greater flexibility and convenience to comply with reporting and recordkeeping requirements. 100% of the information may be submitted electronically.

The FAA Reauthorization Act of 2024, sec. 762 requires the FAA to provide a progress report on the national transition plan related to a fluorine free firefighting foam, every 180 days on the transition from fluorine-free firefighting foam until transition is complete.

This Act requires that the FAA provide progress reports on the status of part 139 airports transition to fluorine-free firefighting foam no later than 180 days after the date of enactment of this Act, and every 180 days thereafter until the progress report termination date. These progress reports on the development and implementation of a national transition plan related to a fluorine-free firefighting foam that meets the performance standards referenced in Chapter 3—Agent Compatibility, Substitutions, and Performance Requirements of Advisory Circular 150/5210.6E—Aircraft Fire Extinguishing Agents for Airports (AC 150/5210.62) issued on November 27, 2023, shall be submitted to the appropriate committees of Congress. These reports will also contain a comprehensive list of the amount of aqueous filmforming firefighting foam at each part 139 airport has as of the date of the submission of the progress report, including the amount of such firefighting foam held in firefighting equipment and the number of gallons regularly kept in reserve at each such airports. In order to provide congress an accurate accounting to AFFF, the FAA must contact all 518 airports to ascertain the amount at each airport.

Respondents: Approximately 518 airports.

Frequency: Information collected once.

Estimated Average Burden per Response: 3 hours.

Estimated Total Annual Burden: 1,554 hours.

Issued in Washington, DC, on May 6, 2025.
Anthony M. Butters,
Manager (acting), Airport Safety and Operations Division (AAS-300).

[FR Doc. 2025-08136 Filed 5-8-25; 8:45 am]

BILLING CODE 4910-13-P